DEPARTMENT OF HEALTH AND HUMAN SERVICES

National Institutes of Health

Prospective Grant of Exclusive Patent License: Inhibition of Plasmodial Surface Anion Channels for the Treatment or Prevention of Malaria

AGENCY: National Institutes of Health, HHS.

ACTION: Notice.

SUMMARY: The National Institute of Allergy and Infectious Diseases, an institute of the National Institutes of Health, Department of Health and Human Services, is contemplating the grant of an Exclusive Commercialization Patent License to practice the inventions embodied in the Patents and Patent Applications listed in the Summary Information section of this notice to Microbiotix, Inc. (“Microbiotix”) located in Worcester, Massachusetts.

DATES: Only written comments and/or applications for a license which are received by the National Institute of Allergy and Infectious Diseases' Technology Transfer and Intellectual Property Office on or before February 24, 2017 will be considered.

ADDRESSES: Requests for copies of the patent application, inquiries, and comments relating to the contemplated Exclusive Commercialization Patent License should be directed to: Peter Tung, Technology Transfer and Patent Specialist, Technology Transfer and Intellectual Property Office, National Institute of Allergy and Infectious Diseases, 5601 Fishers Lane, Suite 6D, MSC9804, Rockville, MD 20852-9804 Telephone: (301) 496-2644; Facsimile: (240) 627-3117; Email: peter.tung@nih.gov.

SUPPLEMENTARY INFORMATION:

Intellectual Property

United States Provisional Patent Application No. 61/083,000, filed July 23, 2008 and entitled “Inhibitors of the Plasmodial Surface Anion Channel as Antimalarials” [HHS Reference No. E-202-2008/0-US-01]; PCT Patent Application PCT/US09/50637, filed July 15, 2009 and entitled “Inhibitors of the Plasmodial Surface Anion Channel as Antimalarials” [HHS Reference No. E-202-2008/0-PCT-02]; and U.S. and foreign patent applications claiming priority to the aforementioned applications.

United States Provisional Patent Application No. 61/474,583, filed April 12, 2011 and entitled “Plasmodial Surface Anion Channel Inhibitors for the Treatment of Malaria” [HHS Reference No. E-145-2011/0-US-01]; PCT Patent Application PCT/US12/33072, filed April 11, 2012 and entitled “Plasmodial Surface Anion Channel Inhibitors for the Treatment of Malaria” [HHS Reference No. E-202-2008/0-PCT-02]; and U.S. and foreign patent applications claiming priority to the aforementioned applications.

The patent rights in these inventions have been assigned to the government of the United States of America.

The prospective exclusive license territory may be worldwide and the field of use may be limited to: “Methods of preventing and/or treating malaria infection by inhibition of Plasmodium Surface Anion Channels (PSAC) with anti-PSAC compounds.”

This technology discloses a novel anion channel on the surface of red blood cells (RBCs) in animals infected with Plasmodium. Named PSAC for “plasmodium surface anion channel,” this channel protein facilitates the transport of nutrients into RBCs for the plasmodium parasite. Sugars, amino acids, purines, vitamins, and precursors for phospholipid biosynthesis have markedly increased uptake into infected RBCs via PSAC. Many of these nutrients have negligible uptake in uninfected RBCs. PSACs, which allow nutrients to reach the growing plasmodium parasites inside RBCs, therefore serves as a new target for the development of antimalarial compounds. The disclosed anti-PSAC compositions and methods of using these anti-PSAC compounds provide a means for prevention or treatment of malaria infection by blocking nutrients to plasmodium parasites.

This notice is made in accordance with 35 U.S.C. 209 and 37 CFR part 404. The prospective exclusive license will be royalty bearing, and the prospective exclusive license may be granted unless within fifteen (15) days from the date of this published notice, the National Institute of Allergy and Infectious Diseases receives written evidence and argument that establishes that the grant of the license would not be consistent with the requirements of 35 U.S.C. 209 and 37 CFR part 404.

Complete applications for a license in the prospective field of use that are filed in response to this notice will be treated as objections to the grant of the contemplated Exclusive Commercialization Patent License Agreement. Comments and objections submitted to this notice will not be made available for public inspection and, to the extent permitted by law, will not be released under the Freedom of Information Act, 5 U.S.C. 552.

Dated: February 6, 2017.
Suzanne Frisbie,
Deputy Director, Technology Transfer and Intellectual Property Office, National Institute of Allergy and Infectious Diseases.

[FR Doc. 2017-02673 Filed 2-8-17; 8:45 am]

BILLING CODE 4140-01-P